DEPARTMENT OF HEALTH AND HUMAN SERVICES

Substance Abuse and Mental Health Services Administration

Notice of Meetings

AGENCY: Substance Abuse and Mental Health Services Administration; Centers for Disease Control and Prevention; Department of Health and Human Services.

ACTION: Notice of meetings.

SUMMARY: Notice is hereby given of the meetings on July 22-23, 2018, of the Substance Abuse and Mental Health Services Administration's (SAMHSA) Tribal Technical Advisory Committee (TTAC); on July 23 and July 25, 2018, of the Centers for Disease Control and Prevention (CDC)/Agency for Toxic Substances and Disease Registry (ATSDR) Tribal Advisory Committee (TAC); and on July 24, 2018, of the Joint Tribal Advisory Committee (JTAC).

DATES:

SAMHSA TTAC

July 22, 2018, 1:00 p.m. to 5:00 p.m. EDT (OPEN)

July 23, 2018, 9:00 a.m. to 5:00 p.m. EDT (OPEN)

• CDC/ATSDR TAC

July 23, 2018, 8:00 a.m. to 6:00 p.m. EDT (OPEN)

July 25, 2018, 8:00 a.m. to 12:00 p.m. EDT (OPEN)

• JTAC

July 24, 2018, 1:00 p.m. to 5:00 p.m. EDT, (OPEN)

ADDRESSES:

• SAMHSA TTAC

Marriott Wardman Park Hotel, 2660 Woodley Road NW, Washington, DC 20008

• CDC/ATSDR TAC

HHS Headquarters, Hubert H. Humphrey Building, 200 Independence Avenue SW, Washington, DC 20201

• JTAC

HHS Headquarters, Hubert H. Humphrey Building, 200 Independence Avenue SW, Washington, DC 20201.

FOR FURTHER INFORMATION CONTACT:

TTAC and JTAC, Mirtha Beadle, MPA, Director, Office of Tribal Affairs and Policy, Substance Abuse and Mental Health Services Administration, 5600 Fishers Lane, Rockville, Maryland 20857, Telephone: (240) 276-0641, Email: otap@samhsa.hhs.gov.

CDC/ATSDR/TAC, Carmen Clelland, PharmD, MPA, MPH, Associate Director for Tribal Support, Office for State, Tribal, Local and Territorial Support, Centers for Disease Control and Prevention, 4770 Buford Highway, Mailstop E-70, Atlanta, GA 30341-3717, Telephone: (404) 498-2205, Email: cclelland@cdc.gov.

SUPPLEMENTARY INFORMATION: Pursuant to Presidential Executive Order 13175 signed on November 6, 2000 and the Presidential Memorandum of September 23, 2004, SAMHSA established the TTAC to provide a complementary venue wherein tribal leaders and SAMHSA officials exchange information about public health issues in Indian Country; identify urgent mental health and substance abuse needs in tribal communities; and discuss collaborative approaches for addressing issues and needs. The SAMHSA TTAC serves as a national advisory body to SAMHSA.

The TTAC meeting will include updates and discussion related to tribal priorities for SAMHSA; collaborative opportunities between SAMHSA and CDC/ATSDR; behavioral health policy, budget, and legislative activities; tribal input in response to recent consultation and listening sessions; and essential coordination with other SAMHSA and HHS efforts to improve tribal behavioral health and wellness.

The purpose of the CDC/ATSDR TAC meeting is to advance CDC and ATSDR support for and partnership with American Indian and Alaska Native (AI/AN) tribes, and to improve the health of tribes by pursuing goals that include assisting in eliminating the health disparities faced by tribes; ensuring that access to critical health and human services is maximized to advance or enhance the social, physical, and economic status of AI/AN people; and promoting health equity for all AI/AN people.

The CDC/ATSDR TAC agenda will include discussions on tribal priorities for CDC and ATSDR, public health capacity in Indian Country, AI/AN health concerns, CDC and ATSDR budget and funding opportunities, and programmatic highlights from the agencies. Agenda items are subject to change as priorities dictate. All tribal leaders are encouraged to submit written testimony for the CDC/ATSDR TAC by 5:00 p.m. EDT Friday, July 15, 2018, to Captain Carmen Clelland, Associate Director of Tribal Support, OSTLTS, via mail to 4770 Buford Highway NE, MS E-70, Atlanta, GA, 30341-3717, or email TribalSupport@cdc.gov. Tribal leaders can find guidance to assist in developing tribal testimony for CDC and ATSDR at www.cdc.gov/tribal/consultation.

The TTAC and JTAC meetings are open to the public. Interested persons may submit data, information, or views on issues pending before the TTAC or JTAC in writing. The designated SAMHSA contact official must receive TTAC and JTAC submissions no later than July 15, 2018. Individuals interested in making public comments during the TTAC meeting must notify the designated SAMHSA contact official by July 15, 2018. Time is available for public comments at the end of the TTAC meeting on July 23 (two minutes will be allotted for each public comment). Oral comments will not be scheduled for the JTAC meeting.

The TTAC and JTAC meetings are accessible via web conferencing. To attend on site, obtain web conferencing information, submit written comments, provide brief oral comments (TTAC only), or request special accommodations for persons with disabilities, please register online at: http://nac.samhsa.gov/Registration/meetingsRegistration.aspx, or submit information for Mirtha Beadle, Director, Office of Tribal Affairs and Policy, SAMHSA, at otap@samhsa.hhs.gov.

SAMHSA and CDC are publishing their committee meeting notices together as CDC/ATSDR TAC members will join the SAMHSA TTAC for a collaborative discussion on July 22. Further, based on recommendations from tribal leaders, a JTAC meeting has been scheduled to discuss issues of common concern across the SAMHSA TTAC, CDC/ATSDR TAC, Indian Health Service (IHS) National Tribal Advisory Committee on Behavioral Health, and other U.S. Department of Health and Human Services (HHS) operating division tribal advisory committees. The intent of the JTAC meeting is to improve coordination across shared TAC topics to strengthen tribal health. The topics for JTAC discussion include improving data on American Indian and Alaska Native Health and the tribal health workforce (i.e., primary care, behavioral health, public health, research, etc.).

Carlos Castillo,
Committee Management Officer, SAMHSA.

[FR Doc. 2018-13878 Filed 6-27-18; 8:45 am]

BILLING CODE 4162-20-P